DEPARTMENT OF TRANSPORTATION

Federal Aviation Administration

Notice of Cancellation of Preparation of Environmental Impact Statement for the Tucson International Airport, Tucson, Pima County, AZ

AGENCY: Federal Aviation Administration, DOT.

ACTION: Notice of cancellation of preparation of environmental impact statement.

SUMMARY: The Federal Aviation Administration (FAA) announces that it has decided to discontinue preparation of an Environmental Impact Statement (EIS) for the proposed relocation of Runway 11R/29L and associated development at Tucson International Airport. The FAA's decision to discontinue preparation of the EIS is based upon the results from a planning effort completed by the Tucson Airport Authority (TAA), the owner and operator of the airport. This planning effort reveled the project purpose and need has changed significantly. As a result, FAA has determined the new runway proposal at Tucson International Airport is not ripe for decision at this time.

FOR FURTHER INFORMATION CONTACT: Roxana Hernandez, Environmental Protection Specialist, Federal Aviation Administration, Western-Pacific Region, Los Angeles Airports District Office, P.O. Box 92007, Los Angeles, CA 90009-2007, Telephone: (310) 725-3614.

SUPPLEMENTARY INFORMATION: On October 13, 2005, the FAA, published in the Federal Register a Notice of Intent to prepare an Environmental Impact Statement (EIS) and hold a Public Scoping Meeting at Tucson International Airport (Volume 70, Number 197, FR 59800-59801). The EIS and Public Scoping Meeting were to address the proposed relocation of Runway 11R/29L and associated development at airport.

In 2005, the FAA based its decision to prepare the EIS on the procedures described in FAA Order 5050.4A, Airport Environmental Handbook, and FAA Order 1050.1E, Environmental Impacts: Policies and Procedures. FAA also based its decision to prepare a federal EIS primarily on TAA's proposal to relocate Runway 11R/29L, 450 feet to the southwest, creating a centerline to centerline separation of 1,156 feet between the existing Runway 11L29R. The length of the relocated Runway 11R/29L would have been 11,000 feet long by 150 feet wide.

Recently, the TAA completed a planning effort that reveled that the project's purpose and need changed significantly. Therefore, when the TAA submits a new Airport Layout Plan with a revised project depicted on it, the FAA will determine the appropriate National Environmental Policy Act (NEPA) documentation necessary to assess the environmental effects of those improvements pursuant to FAA Order 5050.4B, National Environmental Policy Act (NEPA) Implementing Instructions for Airport Actions, and FAA Order 1050.1E, Environmental Impacts: Policies and Procedures.

Issued in Hawthorne, California on September 30, 2010.
Debbie Roth,
Acting Manager, Airports Division, Western—Pacific Region, AWP-600.

[FR Doc. 2010-25483 Filed 10-8-10; 8:45 am]

BILLING CODE 4910-13-P